DEPARTMENT OF LABOR

Office of the Secretary

Submission for OMB Review: Comment Request

September 18, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employee Benefits Security Administration (EBSA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of a currently approved collection.

Title of Collection: Prohibited Transaction Class Exemptions for Multi employer Plans & Multi employer Apprenticeship Plans, PTE 76-1, PTE 77-10, PTE 78-6.

OMB Control Number: 1210-0058.

Affected Public: Businesses or other for-profits.

Estimated Number of Respondents: 4,230.

Total Estimated Annual Burden Hours: 1,052.

Total Estimated Annual Costs Burden (excludes hourly wage costs): $0.

Description: PTE 76-1 permits multiemployer employee benefit plans under specific conditions to negotiate with contributing employer to accept delinquent contributions and settle delinquencies; to make construction loans to contributing employers; and to lease property and purchase services and goods from parties in interest, including contributing employers and employee associations. PTE 77-10 expands the scope of relief provided under PTE 76-1 part C, for leasing property and purchasing goods and services. PTE 78-6 provides an exemption to multiemployer apprenticeship plans for purchasing personal property or leasing real property from a contributing employer. All three exemptions impose recordkeeping requirements on plans as a condition to availability of the relief. For additional information, see related notice published at Vol. 74 FR 31978 on July 6, 2009.

Agency: Employee Benefits Security Administration.

Type of Review: Extension without change of a currently approved collection.

Title of Collection: Request to the Department of Labor for Expedited Review of Denial of COBRA Premium Reduction.

OMB Control Number: 1210-0135.

Affected Public: Individuals of households; Businesses or other for-profits; and Not-for-profit institutions.

Estimated Number of Respondents: 15,400.

Total Estimated Annual Burden Hours: 14,350.

Total Estimated Annual Costs Burden (excludes hourly wage costs): $8,000.

Description: The American Recovery and Reinvestment Act of 2009 (Pub. L. 111-5) provides for premium assistance and expanded eligibility for health benefits under the Consolidated Omnibus Budget Reconciliation Act of 1986, commonly called COBRA. This premium assistance is not paid directly to the covered employee or the qualified beneficiary, but instead is in the form of a tax credit for the health plan, the employer, or the insurer. An individual must be an “assistance eligible individual” to be eligible for the premium assistance. If eligible, these individuals pay only 35% of their COBRA premiums to the plan and the remaining 65% is paid through the tax credit. Eligible individuals can start getting the premium assistance as of the first day of coverage beginning on or after February 17, 2009.

If individuals request treatment as an assistance eligible individual and are denied such treatment because of their ineligibility for COBRA continuation coverage, the Secretary of Labor must make a determination within 15 business days after receipt of an individual's application for review.

The Application to the Department of Labor for Expedited Review of Denial of COBRA Premium Reduction (the “Application”) is the form used by individuals to file their expedited review appeals. Such individuals must complete all information requested on the Application in order to file their review requests with the Department's Employee Benefits Security Administration (EBSA). An Application may be denied if sufficient information is not provided.

In certain situations, EBSA will have to contact plan administrators for additional information regarding an applicant's appeal of a denial of premium reduction. The “Plan Administrator Information Sheet” will be used for this purpose in cases where the Department has otherwise been unable to contact a plan administrator regarding a filed application. For additional information, see related notices published at Vol. 74 FR 28278 on June 15, 2009, and at Vol. 74 FR 20503 on May 4, 2009.

Darrin A. King,
Departmental Clearance Officer.

[FR Doc. E9-23011 Filed 9-23-09; 8:45 am]

BILLING CODE 4510-29-P